DEPARTMENT OF HEALTH AND HUMAN SERVICES

Centers for Disease Control and Prevention

[60Day-09-0780]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at 404-639-5960 or send comments to CDC/ATSDR Assistant Reports Clearance Officer, 1600 Clifton Road, MS-D74, Atlanta, GA 30333 or send an e-mail to omb@cdc.gov.

Comments are invited on (a) whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Survey of Residential Care Facilities (NSRCF), (OMB No. 0920-0780)—Revision— National Center for Health Statistics (NCHS), Centers for Disease Control and Prevention (CDC).

Background and Brief Description

Section 306 of the Public Health Service (PHS) Act (42 U.S.C. 242k), as amended, authorizes that the Secretary of Health and Human Services (DHHS), acting through NCHS, “shall collect statistics on health resources * * * [and] utilization of health care, including extended care facilities, and other institutions.”

In 2008, NCHS sought approval for a pretest and full survey of The National Survey of Residential Care Facilities (NSRCF). OMB approved only the pretest which has been completed. NCHS now seeks approval to collect the full survey. The survey is designed to complement data collected by other federal surveys and to fill a significant data gap about a major portion of the long-term care population. Data from NSRCF will provide information on residential care facilities that policymakers, providers, and researchers can use to address a wide array of policy and research questions. The survey will utilize a computer-assisted personal interviewing (CAPI) system to collect information about facility and resident characteristics. This computerized system speeds the flow of data and makes it possible to release information on a timelier basis and easier for respondents to participate in the survey. The CAPI system may also enhance data quality. Clearance for two years is requested.

A stratified random sample of residential care facilities across four strata (small, medium, large and very large) will be selected to participate in NSRCF. Within each facility a random sample of residents will be selected. To be eligible a facility must be licensed, registered, listed, certified, or otherwise regulated by the State; provide room and board with at least two meals a day; provide around-the-clock on-site supervision; help with activities of daily living (e.g., bathing, eating, or dressing) or medication supervision; serve primarily an adult population; and have at least four beds.

The facility questionnaire will collect data about facility characteristics (e.g., size, age, types of rooms), services offered, characteristics of the resident population, facility policies and services, charges for services, and background of the director. The resident questionnaire collects information on resident demographics, current living arrangements within the facility, involvement in activities, use of services, charges for care, health status, and cognitive and physical functioning. For the national survey, approximately 2,250 facilities will be surveyed for an annual average of 1,125 facilities. Information on an average of 4 residents will be collected from an annual average of 1,125 facility staff. Residents themselves will not be interviewed.

Users of NSRCF data include, but are not limited to CDC; other Department of Health and Human Services (DHHS) agencies, such as the Office of the Assistant Secretary for Planning and Evaluation and the Agency for Healthcare Research and Quality; and associations, such as the American Association of Homes and Services for the Aging, National Center for Assisted Living, American Seniors Housing Association, Assisted Living Federation of America; universities; foundations; and other private sector organizations. There is no cost to respondents other than their time to participate.

Estimated Annualized Burden Table
Type of respondent | Name of form | Number of respondents | Number of responses/ respondent | Average burden/ response (in hours) | Response burden in hours
Facility Director | Facility Screener | 1125 | 1 | 10/60 | 188
Facility Director | Resident Selection | 1125 | 1 | 10/60 | 188
Facility Director | Pre-Interview Worksheet | 1125 | 1 | 15/60 | 281
Facility Director | Facility Questionnaire | 1125 | 1 | 1.25 | 1,406
Facility Director or Staff Member | Resident Questionnaire | 1125 | 4 | 20/60 | 1,500
Total |  |  |  |  | 3,563

Dated: June 3, 2009.
Maryam I. Daneshvar,
Acting Reports Clearance Officer, Office of the Chief Science Officer, Centers for Disease Control and Prevention.

[FR Doc. E9-13409 Filed 6-8-09; 8:45 am]

BILLING CODE 4163-18-P